DEPARTMENT OF ENERGY

Federal Energy Regulatory Commission

Combined Notice of Filings #1

June 11, 2010.

Take notice that the Commission received the following exempt wholesale generator filings:

Docket Numbers: EG10-38-000.

Applicants: CalRENEW-1 LLC.

Description: Notice of Self-Certification of Exempt Wholesale Generator Status of CalRENEW-1 LLC.

Filed Date: 04/30/2010.

Accession Number: 20100430-5496.

Comment Date: 5 p.m. e.t. on Friday, June 25, 2010.

Take notice that the Commission received the following electric rate filings:

Docket Numbers: ER97-3583-004.

Applicants: GS Electric Generating Cooperative Inc.

Description: GS Electric Generating Cooperative, Inc submits Substitute First Revised Sheet No 1 to its Second Revised Rate Schedule No 1.

Filed Date: 06/10/2010.

Accession Number: 20100611-0024.

Comment Date: 5 p.m. e.t. on Thursday, July 1, 2010.

Docket Numbers: ER09-1039-001.

Applicants: Southwest Power Pool, Inc.

Description: Informational Report of Southwest Power Pool, Inc.

Filed Date: 06/11/2010.

Accession Number: 20100611-5033.

Comment Date: 5 p.m. e.t. on Friday, July 2, 2010.

Docket Numbers: ER10-1420-000.

Applicants: Alcoa Power Generating Inc.

Description: Alcoa Power Generating, Inc submits amendments to its Electric Rate Schedule 19 the Power Exchange Agreement with Tennessee Valley Authority.

Filed Date: 06/10/2010.

Accession Number: 20100611-0202.

Comment Date: 5 p.m. e.t. on Thursday, July 1, 2010.

Take notice that the Commission received the following electric securities filings:

Docket Numbers: ES10-44-000.

Applicants: Orange and Rockland Utilities, Inc.

Description: Supplement to Application of Orange and Rockland Utilities, Inc.

Filed Date: 06/10/2010.

Accession Number: 20100610-5126.

Comment Date: 5 p.m. e.t. on Monday, June 21, 2010.

Take notice that the Commission received the following electric reliability filings:

Docket Numbers: RR10-12-000.

Applicants: North American Electric Reliability Corp.

Description: Petition of the North American Electric Reliability Corporation for Approval of the Reliability Standard Processes Manual Incorporating Proposed Revisions to the Reliability Standards Development Process.

Filed Date: 06/10/2010.

Accession Number: 20100610-5128.

Comment Date: 5 p.m. e.t. on Monday, July 12, 2010.

Any person desiring to intervene or to protest in any of the above proceedings must file in accordance with Rules 211 and 214 of the Commission's Rules of Practice and Procedure (18 CFR 385.211 and 385.214) on or before 5 p.m. e.t. on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-14854 Filed 6-18-10; 8:45 am]

BILLING CODE 6717-01-P